DEPARTMENT OF HEALTH AND HUMAN SERVICES

National Institutes of Health

Center For Scientific Review; Amended Notice of Meeting

Notice is hereby given of a change in the meeting of the Center for Scientific Review Special Emphasis Panel, Small Business: HIV/AIDS Innovative Research Applications, March 5, 2020, 12:00 p.m. to 5:00 p.m. at the National Institutes of Health, 6701 Rockledge Drive, Bethesda, MD 20892, which was published in the Federal Register on February 05, 2020, 85 FR 6567.

The meeting will start at 10:00 a.m. and end at 4:00 p.m. The meeting date and location remain the same. The meeting is closed to the public.

Dated: February 5, 2020.
Ronald J. Livingston, Jr.,
Program Analyst, Office of Federal Advisory Committee Policy.

[FR Doc. 2020-02636 Filed 2-10-20; 8:45 am]

BILLING CODE 4140-01-P